DEPARTMENT OF COMMERCE

National Telecommunications and Information Administration

Docket No. 0812021556-9052-02

Public Telecommunications Facilities Program: Closing Date

AGENCY: National Telecommunications and Information Administration (NTIA), U.S. Department of Commerce.

ACTION: Notice of Amended Solicitation of Applications.

SUMMARY: The National Telecommunications and Information Administration (NTIA) announces that it is extending the solicitation period for applications for the Public Telecommunications Facilities Program (PTFP) replacement digital television translator projects. NTIA will accept applications for these projects until Monday, May 18, 2009.

DATES: Applications for replacement digital television translator projects must be received prior to 5 p.m. Eastern Daylight Time (Closing Time), Monday, May 18, 2009 (Closing Date). Applications submitted by facsimile will not be accepted. If an application is received after the Closing Date due to (1) carrier error, when the carrier accepted the package with a guarantee for delivery by the Closing Date and Closing Time, (2) significant weather delays or natural disasters, or (3) delays due to national security issues, NTIA will, upon receipt of proper documentation, consider the application as having been received by the deadline. NTIA will not accept applications post-marked on May 18, 2009 or later and received after this deadline.

ADDRESSES: To obtain a printed application package, submit completed applications, or send any other correspondence, write to PTFP at the following address (please note the new room number): NTIA/PTFP, Room H-4812, U.S. Department of Commerce, 1401 Constitution Avenue, N.W., Washington, DC 20230. Application materials may be obtained electronically via the Internet at http://www.ntia.doc.gov/ptfp or http://www.grants.gov.

FOR FURTHER INFORMATION CONTACT: William Cooperman, Director, Broadcasting Division, telephone: (202) 482-5802; fax: (202) 482-2156. Information about the PTFP can also be obtained electronically via the Internet at http://www.ntia.doc.gov/ptfp.

SUPPLEMENTARY INFORMATION: NTIA publishes this notice to announce that it is extending the solicitation period for applications for the Public Telecommunications Facilities Program (PTFP) replacement digital television translator projects. NTIA will accept applications for such projects until Monday, May 18, 2009. Any applications received between December 18, 2008 and May 18, 2009 will be considered timely and will be given full consideration.

On December 23, 2008, the FCC issued a Notice of Proposed Rulemaking for the creation of a new “replacement” digital television translator service to permit full-service television stations to continue to provide service to viewers within their coverage area who have lost service as a result of those stations' digital transition.¹ On December 30, 2008, the FCC announced that it would begin accepting applications for replacement digital television facilities on January 5, 2009. The FCC further announced that stations could apply for Special Temporary Authority to immediately operate replacement digital television translator facilities during the pendency of the rulemaking proceedings.²

¹ See Amendment of Parts 73 and 74 of the Commission's Rules to Establish Rules for Replacement Digital Low Power Television Translator Stations, MB Docket No. 08-253, Notice of Proposed Rulemaking, FCC 08-278 (rel., Dec. 23, 2008).

² “Media Bureau Announces Application and STA Filing Procedures for New Digital Television Translators,” Public Notice, Federal Communications Commission, DA 08-2818 (rel., Dec. 30, 2008), available at http://fjallfoss.fcc.gov/ edocs_public/attachmatch/DA-08-2818A1.pdf.

Consistent with PTFP's purposes, NTIA is extending the solicitation period for applications for replacement digital television translators until May 18, 2009 so stations may apply for the financial assistance necessary to build facilities as permitted by these new FCC policies. Such applications will be placed in Subpriority A. While applicants may file requests for FCC authorizations with the FCC after the expiration of NTIA's closing date for applications for replacement digital television translator projects, applicants are reminded that no grant will be awarded until confirmation has been received from the FCC that any necessary authorization will be issued. As noted in the Federal Funding Opportunity Notice of October 20, 2008, “[t]ransmission equipment required by public television stations to complete their digital broadcast facilities will be considered in Broadcast Other, Subpriority A” and that facilities “should replicate the station's comparable analog Grade B coverage.”³

³ Announcement of Federal Funding Opportunity, National Telecommunications and Information Administration, FY 2009, U.S. Department of Commerce (Oct. 20, 2008), available at http://www.ntia.doc.gov/otiahome/ptfp/ attachments/FFO_Notice_09.html.

The new closing date of May 18, 2009 is consistent with the closing date for certain digital television Distributed Transmission System (DTS) projects for the FY 2009 PTFP grant round, which was announced on December 9, 2008.⁴ DTS projects were authorized by the Federal Communications Commission (FCC) on November 3, 2008.⁵

⁴ “Public Telecommunications Facilities Program: Closing Date,” 73 Fed. Reg. 74,709 (NTIA Dec. 9, 2008)(notice of amended closing date), available at http://www.ntia.doc.gov/otiahome/ptfp/pdfForms/ NOA-PTFP-AMEND-FY09.pdf.

⁵ Digital Television Distributed Transmission System Technologies, Report and Order, MB Docket No. 05-312, 2008 FCC LEXIS 7698, FCC 08-256 (rel., Nov. 7, 2008) (DTS Report and Order).

Applications for replacement digital television translator projects will utilize the same forms, and undergo the same review and evaluation process contained in the PTFP Closing Date Notice of October 20, 2008.⁶

⁶ “Public Telecommunications Facilities Program: Closing Date,” 73 Fed. Reg. 62,258 (NTIA Oct. 20, 2008)(notice), available at http://www.ntia.doc.gov/ otiahome/ptfp/pdfForms/PTFP_Closing- Dte_FY09.pdf.

Dated: January 26, 2009.
Dr. Bernadette McGuire-Rivera,
Associate Administrator, Office of Telecommunications and Information Applications.

[FR Doc. E9-1961 Filed 1-29-09; 8:45 am]

BILLING CODE 3510-60-S